DEPARTMENT OF THE INTERIOR

National Park Service

[2253-665]

Notice of Inventory Completion: Oregon State University Department of Anthropology, Corvallis, OR

AGENCY: National Park Service, Interior.

ACTION: Notice.

SUMMARY: The Oregon State University Department of Anthropology has completed an inventory of human remains, in consultation with the appropriate Indian tribes, and has determined that there is a cultural affiliation between the human remains and present-day Indian tribes. Representatives of any Indian tribe that believes itself to be culturally affiliated with the human remains may contact the Oregon State University Department of Anthropology. Repatriation of the human remains to the Indian tribes stated below may occur if no additional claimants come forward.

DATES: Representatives of any Indian tribe that believes it has a cultural affiliation with the human remains should contact the Oregon State University Department of Anthropology at the address below by August 22, 2011.

ADDRESSES: Dr. David McMurray, Oregon State University Department of Anthropology, 238 Waldo Hall, Corvallis, OR 97331, telephone (541) 737-4515.

SUPPLEMENTARY INFORMATION: Notice is here given in accordance with the Native American Graves Protection and Repatriation Act (NAGPRA), 25 U.S.C. 3003, of the completion of an inventory of human remains in the control of the Oregon State University Department of Anthropology, Corvallis, OR. The human remains were removed from the mouth of the Sandy River, Multnomah County, OR.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by Oregon State University Department of Anthropology professional staff in consultation with a Columbia River Gorge National Scenic Area archeologist, and the Confederated Tribes of the Grand Ronde Community of Oregon; Confederated Tribes of the Umatilla Indian Reservation, Oregon; Confederated Tribes of the Warm Springs Reservation of Oregon; and the Nez Perce Tribe, Idaho. The Burns Paiute Tribe; Confederated Tribes and Bands of the Yakama Nation, Washington; Confederated Tribes of the Coos, Lower Umpqua and Siuslaw Indians of Oregon; Confederated Tribes of the Siletz Indians of Oregon; Coquille Tribe of Oregon; Cow Creek Band of Umpqua Indians of Oregon; and Klamath Tribes, Oregon, were notified, but did not participate in consultations about the human remains described in this notice.

History and Description of the Remains

In the 1970s, human remains representing a minimum of three individuals were removed from somewhere near the mouth of the Sandy River, in Multnomah County, OR. The human remains were removed due to illegal pot-hunting activities. The human remains were subsequently given to the university, but specific provenience information was not provided. No known individuals were identified. No associated funerary objects are present.

Ethnographic records suggest the mouth of the Sandy River, where it meets the Columbia River, was occupied by Chinookan peoples. The Chinookan peoples occupied a vast area for hunting, fishing, and trade that was “south of the Columbia from the cascades to the mouth of the Willamette” (Berreman, 1937). The Sandy River is within this vast area. The human remains described above are believed to have been removed from this area, which is within or near the traditional lands of the Chinookan peoples whose descendants are members of the present-day Confederated Tribes of the Grand Ronde Community of Oregon and Confederated Tribes of the Warm Springs Reservation of Oregon.

The Confederated Tribes of the Grand Ronde Community of Oregon includes numerous bands from western Oregon, as well as some communities from extreme southwestern Washington and northern California. These communities and bands are the Clackamas Chinook, Multnomah Chinook, Clatsop Chinook, Willapa Chinook, Lower Chinook Proper, Nehalem, Salmon River, Tillamook, Nestucca, Kathlamet or Wahkiakum Chinook, Skilloot, Clatskanie, Clowewalla of the Tumwater, Cascades or Mehetatate of the Tumwater, Tualatin Calapooia, Yamhill Calapooia, Pudding River or Ahantchuyak Calapooia, Santiam Calapooia, Che-lucke-mute or Luckiamute Calapooia, Chelamelah or Long Tom Calapooia, Winefelly, Chemapho or Muddy Creek Calapooia, Chepenefa or Marys River Calapooia, Tsankupi or Tecopa Calapooia, Mohawk or Chefan Calapooia, Yoncalla, Northern Molalla, Southern Molalla, Latgawa or Upper Takelma, Rogue River, Upper Umpqua, and Northern Shasta. At the time of contact, the individual groups spoke 30 dialects of the Athapascan, Chinookan, Kalapuyan, Takelman, Molalan, Sahaptin, Salishan, and Shastan language families. In 1856-1857, the U.S. Government forcibly relocated the Grand Ronde peoples to the Grand Ronde Reservation, located at the headwaters of the South Yamhill River in Yamhill and Polk Counties, OR. The last additions to the Grand Ronde came onto the reservation in the 1870s. The Confederated Tribes of the Grand Ronde Community of Oregon were first incorporated in 1935, terminated from Federal recognition in 1954, and restored to recognized status in 1983.

The Confederated Tribes of the Warm Springs Reservation of Oregon are composed of the Wasco Tribe, the Warm Springs Tribes, and groups of Northern Paiutes. The Wasco Tribe, made up of the Dalles and Dog River bands, occupied the lower Columbia River area and belong to the Chinookan language group. The Warm Springs Tribes, composed of the Upper Deschutes (Tygh), Lower Deschutes (Wyam), Tenino and John Day (Dock-spus) bands, lived on the Deschutes and John Day Rivers, as well as up river of the Wasco Tribe on the Columbia River. The Northern Paiutes were forcibly moved onto the Warm Springs Reservation in 1879 and 1884, but originally had roamed a large territory that included parts of the Deschutes and John Day River Valleys, as well as high desert territories to the east and south of the reservation. In 1855, the Warm Springs and Wasco Tribes entered into a treaty with the United States of America, ceding more than 10 million acres of land. In 1938, the Warm Springs, Wasco and Northern Paiute Tribes formed a confederacy.

Determinations Made by the Oregon State University Department of Anthropology

Officials of the Oregon State University Department of Anthropology have determined that:

• Pursuant to 25 U.S.C. 3001(9), the human remains described in this notice represent the physical remains of three individuals of Native American ancestry.

• Pursuant to 25 U.S.C. 3001(2), there is a relationship of shared group identity that can be reasonably traced between the Native American human remains and the Confederated Tribes of the Grand Ronde Community of Oregon and the Confederated Tribes of the Warm Springs Reservation of Oregon.

Additional Requestors and Disposition

Representatives of any other Indian tribe that believes itself to be culturally affiliated with the human remains should contact Dr. David McMurray, Oregon State University Department of Anthropology, 238 Waldo Hall, Corvallis, OR 97331, telephone (541) 737-3850, before August 22, 2011. Repatriation of the human remains to the Confederated Tribes of the Grand Ronde Community of Oregon and the Confederated Tribes of the Warm Springs Reservation of Oregon may proceed after that date if no additional claimants come forward.

The Oregon State University Department of Anthropology is responsible for notifying the Burns Paiute Tribe; Confederated Tribes and Bands of the Yakama Nation, Washington; Confederated Tribes of the Coos, Lower Umpqua and Siuslaw Indians of Oregon; Confederated Tribes of the Grand Ronde Community of Oregon; Confederated Tribes of the Siletz Indians of Oregon; Confederated Tribes of the Umatilla Indian Reservation, Oregon; Confederated Tribes of the Warm Springs Reservation of Oregon; Coquille Tribe of Oregon; Cow Creek Band of Umpqua Indians of Oregon; Klamath Tribes, Oregon; and Nez Perce Tribe, Idaho, that this notice has been published.

Dated: July 14, 2011.
Sherry Hutt,
Manager, National NAGPRA Program.

[FR Doc. 2011-18356 Filed 7-20-11; 8:45 am]

BILLING CODE 4312-50-P